DEPARTMENT OF HEALTH AND HUMAN SERVICES

Centers for Disease Control and Prevention

Mine Safety and Health Research Advisory Committee: Meeting

In accordance with section 10(a)(2) of the Federal Advisory Committee Act (Pub. L. 92-463), the Centers for Disease Control and Prevention (CDC) announces the following committee meeting.

Name: Mine Safety and Health Research Advisory Committee (MSHRAC).

Times and Dates: 9:00 a.m.-4:30 p.m., May 23, 2006. 8:30 a.m.-12:30 p.m., May 24, 2006.

Place: Four Points Hotel by Sheraton, 1201 K Street, NW., Washington, DC, 20005, telephone (202) 289-7600, fax (202) 289-3310.

Status: Open to the public, limited only by the space available. The meeting room accommodates approximately 75 people.

Purpose: This committee is charged with providing advice to the Secretary, Department of Health and Human Services, the Director, CDC, and the Director, National Institute for Occupational Safety and Health (NIOSH), on priorities in mine safety and health research, including grants and contracts for such research, 30 U.S.C. 812(b)(2), Section 102(b)(2).

Matters to be Discussed: The meeting will focus on NIOSH's current and planned research and prevention activities related to mine disaster prevention and response. The agenda will also include updates on partnership activities and reports from the Director and Associate Director.

Agenda items are subject to change as priorities dictate.

For Further Information Contact: Jeffery L. Kohler, Ph.D., Executive Secretary, MSHRAC, NIOSH, CDC, P.O. Box 18070, 626 Cochrans Mill Road, Pittsburgh, Pennsylvania 15236, telephone (412) 386-5301, fax (412) 386-5300.

The Director, Management Analysis and Services Office, has been delegated the authority to sign Federal Register notices pertaining to announcements of meetings and other committee management activities for both the Centers for Disease Control and Prevention and the Agency for Toxic Substances and Disease Registry.

Dated: April 24, 2006.
Alvin Hall,
Director, Management Analysis and Services Office, Centers for Disease Control and Prevention.

[FR Doc. E6-6649 Filed 5-1-06; 8:45 am]

BILLING CODE 4163-18-P